DEPARTMENT OF ENERGY

Federal Energy Regulatory Commission

Public Notice

March 15, 2005.

The public should take notice that the Federal Energy Regulatory Commission has stopped the receipt of mail from the United States Postal Service effective today March 15, 2005. At this time, the Commission does not know when postal service will resume. The Commission continues to receive filings from private mail delivery services, including messenger services.

The Commission strongly encourages electronic filing of documents in lieu of paper by using the “eFiling” link at http://www.ferc.gov.

The Commission expects to issue another notice in the future to inform the public when postal service will resume.

Magalie R. Salas,
Secretary.

[FR Doc. E5-1225 Filed 3-21-05; 8:45 am]

BILLING CODE 6717-01-P